DEPARTMENT OF TRANSPORTATION

Pipeline and Hazardous Materials Safety Administration

Office of Hazardous Materials Safety; Notice of Delays in Processing of Special Permit Applications

AGENCY: Pipeline and Hazardous Materials Safety Administration, DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ann Mazzullo, Office of Hazardous Materials Special Permits and Approvals, Pipeline and Hazardous Materials Safety Administration, U.S. Department of Transportation, 400 Seventh Street, SW., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

X—Renewal.

PM—Party to application with modification request.

Issued in Washington, DC, on December 7, 2006.
Delmer F. Billings,
Director, Office of Hazardous Materials Safety, Special Permits & Approvals.

Application No. | Applicant | Reason for delay | Estimated date of completion
Modification to Special Permits
12677-M | Austin Powder Illinois Company, Cleveland, OH | 4 | 01-31-2007.
5749-M | E.I. DuPont de Nemours, Wilmington, DE | 4 | 12-31-2006.
12277-M | Indian Sugar and General Engineering Corporation, Haryana | 4 | 12-31-2006.
10481-M | M-1 Engineering Limited, Bradfrod, West Yorkshire | 4 | 12-31-2006.
10646-M | Schlumberger, Sugar Land, TX | 4 | 12-31-2006.
11447-M | SAES Pure Gas, Inc., San Luis Obispo, CA | 4 | 02-28-2007.
3121-M | Department of Defense, Ft. Eustis, VA | 4 | 12-31-2006.
New Special Permit Applications
14229-N | Senex Explosives, Inc., Cuddy, PA | 4 | 01-31-2007.
14237-N | Advanced Technology Materials, Inc. (ATMI), Danbury, CT | 1 | 12-31-2006.
14318-N | Lockheed Martin Technical Operations, Vandenberg AFB, CA | 4 | 12-31-2006.
14343-N | Valero St. Charles, Norco, LA | 4 | 12-31-2006.
14337-N | NKCF Co., Ltd., Jisa-Dong, Kangseo-Gu Busan | 4 | 01-31-2007.
14330-N | Chemical & Metal Industries, Inc., Hudson, CO | 4 | 12-31-2006.
14314-N | North American Automotive Hazmat Action Committee | 1 | 07-31-2007.
14316-N | VOTG North America, Inc., West Chester, PA | 4 | 12-31-2006.
14266-N | NCF Industries, Inc., Santa Maria, CA | 1 | 02-28-2007.
14277-N | Ascus Technologies, Ltd., Cleveland, OH | 3,4 | 12-31-2006.

[FR Doc. 06-9659 Filed 12-12-06; 8:45 am]

BILLING CODE 4910-60-M